DEPARTMENT OF TRANSPORTATION

Pipeline and Hazardous Materials Safety Administration

[Docket No. PHMSA-2010-0041]

Pipeline Safety: Request for Special Permit

AGENCY: Pipeline and Hazardous Materials Safety Administration (PHMSA); DOT.

ACTION: Notice.

SUMMARY: Pursuant to the Federal pipeline safety laws, PHMSA is publishing this notice of a special permit request received from a pipeline operator seeking relief from compliance with certain requirements in the Federal pipeline safety regulations. This notice seeks public comments on this request, including comments on any safety or environmental impacts. At the conclusion of the 30-day comment period, PHMSA will evaluate the request and determine whether to grant or deny a special permit.

DATES: Submit any comments regarding this special permit request by December 2, 2013.

ADDRESSES: Comments should reference the docket number for the specific special permit request and may be submitted in the following ways:

• E-Gov Web site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE., Washington, DC 20590.

• Hand Delivery: Docket Management System: U.S. Department of Transportation, Docket Operations, M-30, West Building Ground Floor, Room W12-140, 1200 New Jersey Avenue SE., Washington, DC 20590 between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT: General: Kay McIver by telephone at 202-366-0113, or email at kay.mciver@dot.gov.

Technical: Steve Nanney by telephone at 713-272-2855, or email at Steve.Nanney@dot.gov.

SUPPLEMENTARY INFORMATION: PHMSA has received a request for a special permit from a pipeline operator seeking relief from compliance with certain pipeline safety regulations. The request includes a technical analysis provided by the operator. The request has been filed at www.Regulations.gov and assigned a docket number. We invite interested persons to participate by reviewing this special permit request at http://www.Regulations.gov, and by submitting written comments, data or other views. Please include any comments on potential environmental impacts that may result if this special permit is granted.

Before acting on this special permit request, PHMSA will evaluate all comments received on or before the comments closing date. Comments will be evaluated after this date if it is possible to do so without incurring additional expense or delay. PHMSA will consider each relevant comment we receive in making our decision to grant or deny a request.

PHMSA has received the following special permit request:

Docket No. | Requester | Regulation(s) affected | Nature of special permit
PHMSA-2010-0041 | Williams Gas Pipeline Company, LLC (WGP) | 49 CFR 192.150 | To authorize the extension of a special permit issued to WGP on June 10, 2011, from its current expiration date of June 10, 2014 to December 31, 2014.
|  |  | PHMSA issued the June 10, 2011 special permit to WGP to waive compliance from Federal Regulations in 49 CFR 192.150 for one (1) segment of natural gas transmission pipeline, the Transcontinental Gas Pipe Line (Transco) Mainline “A” located in Chester County, Pennsylvania. The Federal pipeline safety regulations in 49 CFR 192.150 require that new transmission pipelines or replacement components of a transmission line be designed and constructed to accommodate the passage of instrumented internal inspection devices. This includes the replacement of line pipe, valves, fittings, or other pipeline components.
|  |  | The current configuration of the pipeline does not allow passage of commercially available internal inspection devices and, as a result, the pipeline is not in compliance with PHMSA regulations. The special permit would allow WGP to replace an approximate 2,100-foot segment of 30-inch pipeline with a 42-inch diameter pipeline at the Brandywine Creek, in Chester County, Pennsylvania. The 42-inch replacement pipeline would accommodate internal inspection devices.
|  |  | On August 8, 2012, WGP submitted an application to the Federal Energy Regulatory Committee (FERC) for a Certificate of Public Convenience and Necessity. WGP experienced delays during this project with approvals from FERC and the Pennsylvania Department of Environmental Protection (PADEP). FERC issued the requested certificate on July 18, 2013.
|  |  | On August 8, 2013, PADEP granted WGP an extension valid through December 31, 2015. With the other extensions in place WGP requested that PHMSA extend its special permit date to December 31, 2014. PHMSA's extension would allow the revised construction project schedule to begin on March 3, 2014, with a targeted completion date of December 31, 2014.

Authority: 49 U.S.C. 60118(c)(1) and 49 CFR 1.53.

Issued in Washington, DC, on October 25, 2013.
Alan K. Mayberry,
Deputy Associate Administrator for Policy and Programs.

[FR Doc. 2013-25838 Filed 10-30-13; 8:45 am]

BILLING CODE 4910-60-P